DEPARTMENT OF THE INTERIOR

Bureau of Ocean Energy Management

[MMAA104000; OMB Control Number 1010-0072; Docket ID: BOEM-2017-0016]

Agency Information Collection Activities; Prospecting for Minerals Other Than Oil, Gas, and Sulphur on the Outer Continental Shelf and Authorizations of Noncommercial Geological and Geophysical Activities

AGENCY: Bureau of Ocean Energy Management, Interior.

ACTION: Notice of Information Collection; request for comment.

SUMMARY: In accordance with the Paperwork Reduction Act of 1995, the Bureau of Ocean Energy Management (BOEM) is proposing to renew an information collection with revisions.

DATES: Interested persons are invited to submit comments on or before June 5, 2018.

ADDRESSES: Send your comments on this information collection request (ICR) by mail to the BOEM Information Collection Clearance Officer, Anna Atkinson, Bureau of Ocean Energy Management, 45600 Woodland Road, Sterling, Virginia 20166; or by email to anna.atkinson@boem.gov. Please reference OMB Control Number 1010-0072 in the subject line of your comments.

FOR FURTHER INFORMATION CONTACT: To request additional information about this ICR, contact Anna Atkinson by email, or by telephone at 703-787-1025.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of BOEM? (2) Will this information be processed and used in a timely manner? (3) Is the estimate of burden accurate? (4) How might BOEM enhance the quality, utility, and clarity of the information to be collected? and (5) How might BOEM minimize the burden of this collection on the respondents, including minimizing the burden through the use of information technology?

Comments that you submit in response to this notice are a matter of public record. We will include or summarize each comment in our request to OMB for approval of this ICR. Before including your address, phone number, email address, or other personal identifying information in your comment, you should be aware that your entire comment—including your personal identifying information—may be made publicly available at any time. While you can ask us in your comments to withhold your personal identifying information from public review, we cannot guarantee that we will be able to do so.

Abstract: The information collection request concerns the paperwork requirements in the regulations under 30 CFR part 580, Prospecting for Minerals Other than Oil, Gas, and Sulphur on the Outer Continental Shelf (OCS), as well as authorizations of noncommercial geological and geophysical (G&G) prospecting and scientific research activities issued pursuant to Section 11 of the Outer Continental Shelf Lands Act, as amended (43 U.S.C. 1331 et seq., and 43 U.S.C. 1801 et seq.).

The OCS Lands Act authorizes the Secretary of the Interior (Secretary) to prescribe rules and regulations to administer leasing of mineral resources on the OCS. Section 1337(k)(1) of the OCS Lands Act authorizes the Secretary “. . . to grant to the qualified persons offering the highest cash bonuses on a basis of competitive bidding leases of any mineral other than oil, gas, and sulphur in any area of the [O]uter Continental Shelf not then under lease for such mineral upon such royalty, rental, and other terms and conditions as the Secretary may prescribe at the time of offering the area for lease.”

Section 1340(a)(1) of the OCS Lands Act states that “. . . any person authorized by the Secretary may conduct geological and geophysical explorations in the [O]uter Continental Shelf, which do not interfere with or endanger actual operations under any lease maintained or granted pursuant to this subchapter, and which are not unduly harmful to aquatic life in such area.” Under 30 CFR part 580, G&G exploration to be performed by any person on unleased lands or lands under lease to a third party requires issuance of a BOEM permit or submission of a scientific research notice. Section 1340(g) further requires that permits for geologic exploration will only be issued if it is determined that the applicant for such permit is qualified; the exploration will not interfere with or endanger operations under any lease; and the exploration will not be unduly harmful to aquatic life in the area, result in pollution, create hazardous or unsafe conditions, unreasonably interfere with other uses of the area, or disturb any site, structure, or object of historical or archaeological significance.

Prospecting for marine minerals includes certain aspects of exploration as defined in the OCS Lands Act at 43 U.S.C. 1331(k). That section defines the term “exploration” to mean the process of searching for minerals, including “geophysical surveys where magnetic, gravity, seismic, or other systems are used to detect or characterize the presence of such minerals. . . .”

As a Federal agency, BOEM has a responsibility to comply with the National Environmental Policy Act (42 U.S.C. 4321 et seq.), Endangered Species Act (16 U.S.C. 1531 et seq.), and Marine Mammal Protection Act (16 U.S.C. 1361 et seq.), among other environmental laws. Compliance with the Endangered Species Act includes a substantive duty to carry out any agency action in a manner that is not likely to jeopardize protected species or result in adverse modification of designated critical habitat, as well as a procedural duty to consult with the United States Fish and Wildlife Service and National Oceanic and Atmospheric Administration Fisheries before engaging in a discretionary action that may affect a protected species.

Respondents are required to submit form BOEM-0134 to provide the information necessary to evaluate their request to conduct G&G prospecting, exploration or scientific research activities, and upon approval, respondents are issued a permit or authorization. BOEM uses the information to ensure there is no adverse effect to the marine, coastal, or human environment, personal harm, unsafe operations and conditions, or unreasonable interference with other uses; to analyze and evaluate preliminary or planned mining activities; to monitor progress and activities in the OCS; to acquire G&G data and information collected under a Federal permit offshore; and to determine eligibility for reimbursement from the Government for certain costs.

BOEM uses the information collected to understand the G&G characteristics of marine mineral-bearing physiographic regions of the OCS. The information aids BOEM in analyzing and weighing the potential for environmental damage, the discovery of marine minerals, and any associated impacts on affected coastal States.

The Independent Offices Appropriations Act (31 U.S.C. 9701), the Omnibus Appropriations Bill (Pub. L. 104-133, 110 Stat. 1321, April 26, 1996), and the OMB Circular A-25 authorize Federal agencies to recover the full cost of services that confer special benefits. Accordingly, all G&G permits for commercial prospecting are subject to cost recovery, and BOEM regulations at 30 CFR 580.12 specify the service fees for these requests.

BOEM protects proprietary information in accordance with the Freedom of Information Act (5 U.S.C. 552) and the Department of the Interior's implementing regulations (43 CFR part 2), and under regulations at 30 CFR 580.70, applicable sections of 30 CFR parts 550 and 552.

Title of Collection: 30 CFR 580, Prospecting for Minerals other than Oil, Gas, and Sulphur on the Outer Continental Shelf and Authorizations of Noncommercial Geological and Geophysical Activities.

OMB Control Number: 1010-0072.

Form Number: BOEM-0134, Requirements for Geological and Geophysical Prospecting, Exploration, or Scientific Research on the Outer Continental Shelf Related to Minerals Other than Oil, Gas, and Sulphur.

Type of Review: Revision of a currently approved collection.

Respondents/Affected Public: Permittees/respondents, including those required to only file notices (scientific research).

Total Estimated Number of Annual Responses: 38 responses.

Total Estimated Number of Annual Burden Hours: 485 hours.

Respondent's Obligation: Mandatory or Required to Obtain or Retain a Benefit.

Frequency of Collection: On occasion, annual, or as specified in permits.

Total Estimated Annual Non-hour Burden Cost: $4,024.

Estimated Reporting and Recordkeeping Hour Burden: We expect the burden estimate for the renewal will be 485 hours, a decrease of 3 burden hours.

In calculating the burden, requesting Governor(s) comments on activities pursuant to 30 CFR 580.31(b) and 30 CFR 580.73 does not constitute information collection under 5 CFR 1320.3(h)(4). These requests for comment are general solicitations of public comment, so BOEM has removed the three burden hours associated with this burden.

The following table details the individual BOEM components and respective burden hours of this ICR. In calculating the burden hours, we assumed that respondents perform certain usual and customary requirements in the normal course of their activities.

Burden Table
Citation 30 CFR part 580, as applicable | Reporting and recordkeeping requirements | Hour burden | Average number of annual responses | Annual burden hours
| Non-Hour Cost Burden ¹
Subpart B
10; 11(a); 12; 13; Permit Form | Apply (Form BOEM-0134) for permit or authorization to conduct G&G prospecting or exploration for mineral resources or notice to conduct scientific research on the OCS. Provide notifications & additional information as required | 88 | 2 permits 2 authorizations | 176 176
|  |  | $2,012 permit application fee × 2 permits ² = $4,024
11(b); 12(c) | File notice to conduct scientific research activities related to hard minerals, including notice to BOEM prior to beginning and after concluding activities. | 8 | 3 notices | 24
Subtotal | 7 Responses | 376
| $4,024 Non-Hour Cost Burden
Subpart C
21(a) | Report to BOEM if hydrocarbon/other mineral occurrences are detected; if environmental hazards that imminently threaten life and property are detected; or adverse effects occur to the environment, aquatic life, archaeological resources or other uses of the area | 1 | 1 report | 1
22 | Submit written request for approval to modify operations, with required information | 1 | 2 requests | 2
23(b) | Request reimbursement for food, quarters, and/or transportation expenses for BOEM inspection | 1 | 3 requests | 3
24 | Submit status and final reports on specified schedule with daily log | 12 | 4 reports | 48
28 | Request relinquishment of permit by certified or registered mail | 1 | 1 relinquishment ³ | 1
31(b); 73(a)(b) | Governor(s) of adjacent State(s) submit to BOEM: comments on activities involving an environmental assessment; any agreement between Governor and Secretary upon Governor's request for proprietary data, information, and samples; and any disclosure agreement | Not considered IC as defined in 5 CFR 1320.3(h)(4) |  | 0
33, 34 | Appeal civil penalty; appeal order or decision | Burden exempt under 5 CFR 1320.4(a)(2); (c). |  | 0
Subtotal | 11 Responses | 55
Subpart D
40; 41; 50; 51; Permit Form | Notify BOEM and submit G&G data including analysis, processing or interpretation of information collected under a permit and/or processed by permittees or 3rd parties, including reports, logs or charts, results, analyses, descriptions, etc., as required | 8 | 3 submissions | 24
42(b); 52(b) | Advise 3rd party recipient in writing that it assumes obligations as condition precedent of sale—no submission to BOEM is required | ½ | 4 notices | 2
42(c), (d); 52(c), (d) | Written notification to BOEM of sale, trade, transfer or licensing of data and identify recipient | 1 | 1 notice | 1
60; 61 | Request reimbursement for costs of reproducing data/information & certain processing costs | 1 | 1 request ³ | 1
70 | Enter disclosure agreement. | 4 | 1 agreement | 4
72(b) | Submit comments on BOEM's intent to disclose data/information for reproduction, processing, and interpretation | 4 | 1 response | 4
72(d) | Independent contractor or agent prepares and signs written commitment not to sell, trade, license, or disclose data/information without BOEM approval | 4 | 2 submissions | 8
Subtotal | 13 Responses | 44
General
Part 580 | General departure and alternative compliance requests not specifically covered elsewhere in Part 580 regulations. | 4 | 1 request | 4
Permits ⁴ | Request extension of permit/authorization time period | 1 | 2 extensions | 2
Permits ⁴ | Retain G&G data/information for 10 years and make available to BOEM upon request | 1 | 4 respondents | 4
Subtotal | 7 Responses | 10
Total Burden | 38 Responses | 485
| $4,024 Non-Hour Cost Burdens
¹ Fees are subject to modification per inflation annually.
² Only permits, not authorizations, are subject to cost recovery.
³ No requests received for many years. Minimal burden for regulatory (PRA) purposes only.
⁴ These permits/authorizations are prepared by BOEM and sent to respondents; therefore, the forms themselves do not incur burden hours.

An agency may not conduct or sponsor, and a person is not required to respond to, a collection of information unless it displays a currently valid OMB control number.

The authority for this action is the Paperwork Reduction Act of 1995 (44 U.S.C. 3501 et seq.).

Dated: April 2, 2018.
Deanna Meyer-Pietruszka,
Chief, Office of Policy, Regulations, and Analysis.

[FR Doc. 2018-07004 Filed 4-5-18; 8:45 am]

BILLING CODE 4310-MR-P